DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 13, 2008. Address written comments to Statutory Import Programs Staff, Room 2104, U.S. Department of Commerce, Washington, D.C. 20230. Applications may be examined between 8:30 A.M. and 5:00 P.M. at the U.S. Department of Commerce in Room 2104.

Docket Number: 08-048. Applicant: University of Puerto Rico, P.O. Box 23334, San Juan, PR 00931-3334. Instrument: Electron Microscope, Model JEM 2100-F. Manufacturer: JEOL Ltd., Japan. Intended Use: The instrument is intended to be used for materials characterization, including microscopy and elemental analysis at nanometer dimensions and at atomic resolution. A unique feature of this the instrument is that it has a variable voltage Field Emission electron source with an energy filter and X-ray fluorescence detector. Application accepted by Commissioner of Customs: September 24, 2008.

Docket Number: 08-049. Applicant: University of Puerto Rico, P.O. Box 23334, San Juan, PR 00931-3334. Instrument: Electron Microscope, Model JEM 2200-FS. Manufacturer: JEOL Ltd., Japan. Intended Use: The instrument is intended to be used for materials characterization, including microscopy and elemental analysis at nanometer dimensions and at atomic resolution. A unique feature of this the instrument is that it has a 200kV Field Emission electron source with an energy filter and X-ray fluorescence detector. Application accepted by Commissioner of Customs: September 24, 2008.

Docket Number: 08-053. Applicant: Purdue University, 701 Northwester Ave., School of Materials Engineering, West Lafayette, IN 47907. Instrument: Electron Microscope, Model Tecnai G2 F20 TEM. Manufacturer: FEI Company, Czech Republic. Intended Use: The instrument is intended to be used to study the composition and structure of materials such as metals, semiconductors, ceramic, polymers and biomaterials through standard electron microscopy techniques. More specifically, the instrument will be used to demonstrate the use of electron diffraction and light field and dark field imaging in characterizing the structure and composition of these materials. Application accepted by Commissioner of Customs: October 3, 2008.

Dated: October 20, 2008.
Faye Robinson,
Director, Statutory Import Programs Staff.

[FR Doc. E8-25437 Filed 10-23-04; 8:45 am]

BILLING CODE 3510-DS-S